DEPARTMENT OF THE TREASURY

31 CFR Subtitles A and B

Semiannual Agenda

AGENCY: Department of the Treasury.

ACTION: Semiannual regulatory agenda.

SUMMARY: This notice is given pursuant to the requirements of the Regulatory Flexibility Act and Executive Order 12866 (“Regulatory Planning and Review”), which require the publication by the Department of a semiannual agenda of regulations.

FOR FURTHER INFORMATION CONTACT: The Agency contact identified in the item relating to that regulation.

SUPPLEMENTARY INFORMATION: The semiannual regulatory agenda includes regulations that the Department has issued or expects to issue and rules currently in effect that are under departmental or bureau review.

Beginning with the fall 2007 edition, the Internet has been the primary medium for disseminating the Unified Agenda. The complete Unified Agenda will be available online at www.reginfo.gov and www.regulations.gov, in a format that offers users an enhanced ability to obtain information from the agenda database. Because publication in the Federal Register is mandated for the regulatory flexibility agenda required by the Regulatory Flexibility Act (5 U.S.C. 602), Treasury's printed agenda entries include only:

(1) Rules that are in the regulatory flexibility agenda, in accordance with the Regulatory Flexibility Act, because they are likely to have a significant economic impact on a substantial number of small entities; and

(2) Rules that have been identified for periodic review under section 610 of the Regulatory Flexibility Act.

Printing of these entries is limited to fields that contain information required by the Regulatory Flexibility Act's agenda requirements. Additional information on these entries is available in the Unified Agenda available on the Internet.

The semiannual agenda of the Department of the Treasury conforms to the Unified Agenda format developed by the Regulatory Information Service Center (RISC).

Dated: February 28, 2014.
Brian J. Sonfield,
Deputy Assistant General Counsel for General Law and Regulation.

Customs Revenue Function—Long-Term Actions
Sequence No. | Title | Regulation Identifier No.
228 | Documentation Related to Goods Imported From U.S. Insular Possessions | 1515-AD97

Internal Revenue Service—Completed Actions
Sequence No. | Title | Regulation Identifier No.
229 | Reporting and Notice Requirements Under Section 6056 | 1545-BL26

DEPARTMENT OF THE TREASURY (TREAS)

Customs Revenue Function (CUSTOMS)

Long-Term Actions

228. Documentation Related to Goods Imported From U.S. Insular Possessions

Legal Authority: 19 U.S.C. 66; 19 U.S.C. 1202 (General Note 3(a)(iv) and (i), Harmonized Tariff Schedule of the United States (HTSUS)); 19 U.S.C. 1623; 19 U.S.C. 1624; 48 U.S.C. 1406i; . . .

Abstract: Amendment to the U.S. Customs and Border Protection (CBP) regulations (title 19 of the Code of Federal Regulations (19 CFR part 7)) to eliminate the requirement that a customs officer at the port of export verify and sign CBP Form 3229, Certificate of Origin for U.S. Insular Possessions, and to require instead that the importer present this form, upon CBP's request, rather than submit it with each entry as the current regulations require. CBP believes that this amendment will streamline the entry process by making it more efficient as it will reduce the overall administrative burden on importers as well as CBP. The importer must maintain CBP Form 3229 in its possession or be subject to a recordkeeping penalty.

Timetable:

Action | Date | FR Cite
NPRM | 01/14/14 | 79 FR 2397
NPRM Comment Period End | 03/17/14
Next Action Undetermined

Regulatory Flexibility Analysis Required: Yes.

Agency Contact: Seth Mazze, Phone: 202 863-6567, Email: seth.mazze@cbp.dhs.gov.

RIN: 1515-AD97

BILLING CODE 4810-01-P

DEPARTMENT OF THE TREASURY (TREAS)

Internal Revenue Service (IRS)

Completed Actions

229. Reporting and Notice Requirements Under Section 6056

Legal Authority: 26 U.S.C. 7805; 26 U.S.C. 6056

Abstract: Proposed regulations under section 6056 of the Internal Revenue Code, as enacted by the Affordable Care Act, to provide guidance on rules that require applicable large employers to file certain information with the Internal Revenue Service on coverage under an eligible employer-sponsored health plan and furnish to individuals statements that set forth the information required to be reported to the Internal Revenue Service.

Completed:

Reason | Date | FR Cite
Final Rule | 03/10/14 | 79 FR 13231
Final Rule Effective | 03/10/14 |

Regulatory Flexibility Analysis Required: Yes.

Agency Contact: Ligeia M. Donis, Phone: 202 622-0047, Fax: 202 622-5697, Email: ligeia.m.donis@irscounsel.treas.gov.

R. Lisa Mojiri-Azad, Phone: 202 622-6060, Email: lisa.mojiri-azad@irscounsel.treas.gov.

RIN: 1545-BL26

[FR Doc. 2014-13128 Filed 6-12-14; 8:45 am]

BILLING CODE 4810-01-P